DEPARTMENT OF LABOR

Employment and Training Administration

[TA-W-53,564]

Allegheny Ludlum Corporation, Leechburg Works, Leechburg, Pennsylvania; Notice of Termination of Investigation

Pursuant to Section 221 of the Trade Act of 1974, as amended, an investigation was initiated on November 14, 2003 in response to a worker petition filed by a company official on behalf of workers at the Allegheny Ludlum Corporation, Leechburg Works, Leechburg, Virginia.

The petitioning group of workers is covered by an earlier petition filed on November 3, 2003 (TA-W-53,538) that is the subject of an ongoing investigation for which a determination has not yet been issued. Further investigation in this case would duplicate efforts and serve no purpose; therefore the investigation under this petition has been terminated.

Signed at Washington, DC this 24th day of November, 2003.
Linda G. Poole,
Certifying Officer, Division of Trade Adjustment Assistance.

[FR Doc. 03-31678 Filed 12-23-03; 8:45 am]

BILLING CODE 4510-30-P